ENVIRONMENTAL PROTECTION AGENCY

[FRL-7463-7]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov. and please refer to the appropriate EPA Information Collection Request (ICR) Number.

SUPPLEMENTARY INFORMATION:

OMB Responses to Agency Clearance Requests

OMB Approvals

EPA ICR No. 1897.04; Information Requirements for Marine Diesel Engines (Nonroad Large SI Engines and Marine Diesel Engines) (Amendments) (Final Rule) in 40 CFR part 94 and part 1048; was approved 01/31/2003; OMB No. 2060-0460; expires 10/31/2004.

EPA ICR No. 0616.09; Foreign Purchases Acknowledgment Statement of Unregistered Pesticides in 40 CFR part 1688; was approved 01/14/2003; OMB No. 2070-0027; expires 01/31/2006.

EPA ICR No. 0595.08; Notice of Pesticide Registration by States to Meet a Special Local Need (SLN) Under FIFRA section 24(c) in 40 CFR part 162; was approved 01/16/2003; OMB No. 2070-0055; expires 01/31/2006.

EPA ICR No. 0261.14; Notification of Regulated Waste Activity in 40 CFR parts 262.12, 263.11, 264.11, 265.11; 40 CFR 266.21, 266.22, 266.23; 266.70(b), 261.4(a)(20)(iii)(B), 273.54, 273.60, 40 CFR 279.42, 279.51, 279.62, 279.73; 40 CFR 266.80, 266.100, 266.101, 266.102, 266.103, 266.108, 270.1(b) was approved 01/17/2003; OMB No. 2050-0028; expires 01/31/2006.

EPA ICR No. 2094.01; Survey of Air Quality Issues After September 11, 2001; was approved 01/22/2003; OMB No. 2020-0027; expires 05/31/2003.

EPA ICR No. 0152.07; Notice of Arrival of Pesticides and Devices (FIFRA) in 19 CFR 12.112; was approved 01/23/2003; OMB No. 2020-0020; expires 01/31/2006.

EPA ICR No. 0575.09; Health and Safety Data Reporting; Submission of Lists and Copies of Health and Safety Studies; in 40 CFR part 716; was approved 02/10/2003; OMB No. 2070-0004; expires 02/28/2006.

EPA ICR No. 1395.05; Emergency Planning and Release Notification Requirements under Emergency Planning and Community Right-to-Know Act sections 302, 303 and 304 was approved 02/13/2003; OMB No. 2050-0092; expires 02/28/2006.

EPA ICR No. 1571.07; General Hazardous Waste Facility Standards in 40 CFR 264.12-13; 264.15-17; 264.73-74; 264.37; 264.51-56; 264.96-97; 264.112-113; 264.115-120; 40 CFR 265.12-13; 265.15; 265.16; 265.19; 265.73-74; 265.51-56; 265.112-113; 265.115-120; 40 CFR parts 264 and 265, subpart H; 270.30; was approved 02/13/2003; OMB No. 2050-0120; expires 02/28/2006.

Short Term Extensions

EPA ICR No. 0234.07; Performance Evaluation Studies on Water and Wastewater Laboratories; OMB No. 2080-0021; on 01/29/2003 OMB extended the expiration date through 02/28/2003.

EPA ICR No. 0597.07; Tolerance Petitions for Pesticides on Food/Feed Crops and New Inert Ingredients; OMB No. 2070-0024; on 01/31/2003 OMB extended the expiration date though 04/30/2003.

Dated: February 20, 2003.
Oscar Morales,
Director, Collection Strategies Division.

[FR Doc. 03-5744 Filed 3-11-03; 8:45 am]

BILLING CODE 6560-50-P